DEPARTMENT OF COMMERCE

National Oceanic and Atmospheric Administration

[RTID 0648-XD124]

South Atlantic Fishery Management Council; Public Hearings

AGENCY: National Marine Fisheries Service (NMFS), National Oceanic and Atmospheric Administration (NOAA), Commerce.

ACTION: Notice of public hearings.

SUMMARY: The South Atlantic Fishery Management Council (Council) will hold three webinar public hearings pertaining to the Comprehensive Amendment Addressing Electronic Reporting for Commercial Vessels. The amendment is being developed jointly with the Gulf of Mexico Fishery Management Council to modify reporting for commercial fishing vessels issued South Atlantic or Gulf of Mexico permits and currently reporting through the Southeast Coastal Logbook program (Gulf Reef Fish, South Atlantic Snapper Grouper, Atlantic Dolphin and Wahoo, and Coastal Migratory Pelagic Resources of the Gulf and Atlantic), to require that the reports be submitted electronically. It is anticipated that this change will improve the timeliness and efficiency of the commercial logbook data collection and management program, which will improve monitoring and compliance of federally permitted commercial vessels participating in the Southeast Coastal Logbook program.

DATES: The webinar public hearings will be held July 25, 26, and 27, 2023, beginning at 6 p.m., EST.

FOR FURTHER INFORMATION CONTACT: Kim Iverson, Public Information Officer, SAFMC; phone: (843) 571-4366 or toll free: (866) SAFMC-10; fax: (843) 769-4520; email: kim.iverson@safmc.net.

SUPPLEMENTARY INFORMATION: Public hearing documents, an online public comment form, and other materials will be posted to the Council's website at https://safmc.net/public-hearings-and-scoping/ as they become available. Written comments should be addressed to John Carmichael, Executive Director, SAFMC, 4055 Faber Place Drive, Suite 201, N Charleston, SC 29405. Written comments must be received by July 28, 2023, by 5 p.m. During the hearings, Council staff will provide an overview of actions being considered in the amendment. Staff will answer clarifying questions on the presented information and the proposed actions. Staff from the NMFS Southeast Fisheries Science Centre and the Atlantic States Cooperative Statistics Program will also be available to answer questions about the transition to electronic reporting. Following the presentation and questions, the public will have the opportunity to provide comments on the amendment.

Special Accommodations

The hearings are physically accessible to people with disabilities. Requests for auxiliary aids should be directed to the Council office (see ADDRESSES) 5 days prior to the hearing.

Note: The times and sequence specified in this agenda are subject to change.

Authority: 16 U.S.C. 1801 et seq.

Dated: July 5, 2023.
Rey Israel Marquez,
Acting Deputy Director, Office of Sustainable Fisheries, National Marine Fisheries Service.

[FR Doc. 2023-14483 Filed 7-7-23; 8:45 am]

BILLING CODE 3510-22-P